DEPARTMENT OF HEALTH AND HUMAN SERVICES

45 CFR Part 153

[CMS-9975-CN]

RIN 0938-AR07

Patient Protection and Affordable Care Act; Standards Related to Reinsurance, Risk Corridors, and Risk Adjustment; Correction

AGENCY: Department of Health and Human Services.

ACTION: Final rule; correction.

SUMMARY: This document corrects a technical error that appeared in the final rule with comment period published in the Federal Register on March 23, 2012 entitled, “Patient Protection and Affordable Care Act; Standards Related to Reinsurance, Risk Corridors, and Risk Adjustment.”

DATES: Effective Date: This correction is effective on May 22, 2012.

FOR FURTHER INFORMATION CONTACT: Jeff Wu at (301) 492-4416. Wakina Scott at (301) 492-4393.

SUPPLEMENTARY INFORMATION:

I. Background

In Federal Register Doc. 2012-6594 of March 23, 2012 (77 FR 17220-17252), there was a technical error that is identified and corrected in the “Correction of Error” section below. The provision in this correction document is effective as if it had been included in the document published on March 23, 2012. Accordingly, the correction is effective on May 22, 2012.

II. Summary of Error

On page 17248, we inadvertently made an incorrect cross reference in the regulations text at § 153.220(d). We are correcting the cross reference from “§ 153.210(a)(2)(ii)” to read “§ 153.210(a)(2)(iii)” to specify that if a State contracts with more than one applicable reinsurance entity, the State must notify HHS in the manner and timeframe specified by HHS of the percentage of reinsurance contributions received from HHS for the State to be allocated to each applicable reinsurance entity.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds there is good cause to do so, and the agency incorporates a statement of the findings and its reasons in the rule issued.

This document merely corrects technical and typographic errors in the Health Insurance Premium Stabilization final rule that was published on March 23, 2012 and becomes effective on May 22, 2012. The changes are not substantive changes to the standards set forth in the final rule. Therefore, we believe that undertaking further notice and comment procedures to incorporate this correction and delay the effective date for this change is unnecessary. In addition, we believe it is important for the public to have the correct information as soon as possible, and believe it is contrary to the public interest to delay the dissemination of it. For the reasons stated above, we find there is good cause to waive notice and comment procedures and the 30-day delay in the effective date for this correction notice.

IV. Correction of Error

Correction to the Regulations Text

§ 153.220 [Corrected]

On page 17248, in the second column; under “paragraph (d) Distribution of reinsurance contributions,” in line 11, revise the cross reference “§ 153.210(a)(2)(ii)” to read “§ 153.210(a)(2)(iii)”.

Dated: May 11, 2011.
Jennifer Cannistra,
Executive Secretary to the Department.

[FR Doc. 2012-11994 Filed 5-16-12; 8:45 am]

BILLING CODE 4120-01-P